DEPARTMENT OF THE INTERIOR

Bureau of Reclamation

Southern Delivery System Project, Fryingpan-Arkansas Project, Colorado

AGENCY: Bureau of Reclamation, Interior.

ACTION: Notice of intent to prepare an environmental impact statement.

SUMMARY: The Regional Water Infrastructure Authority (RWIA) is proposing to construct a pipeline and related facilities known as the Southern Delivery System (SDS) that will deliver Fryingpan-Arkansas Project (Fry-Ark) water and non-Fry-Ark water from the Arkansas River near the City of Pueblo to an area east of Colorado Springs. On February 19, 2003, RWIA and its individual participants, the cities of Colorado Springs and Fountain, along with the Security Water District, requested a long-term water conveyance contract from the Bureau of Reclamation (Reclamation). On July 14, 2003, Colorado Springs Utilities (Springs Utilities) made a request for a long-term storage contract for Pueblo Reservoir in association with this project. Because the RWIA proposal involves long-term storage and conveyance contracts from Reclamation, it has been determined that Reclamation should be the lead Federal agency for compliance with National Environmental Policy Act of 1969 (NEPA).

DATES: See SUPPLEMENTARY INFORMATION section for the dates and times of the scoping meetings.

ADDRESSES: See SUPPLEMENTARY INFORMATION section for the locations of the scoping meetings.

Please send comments on potentially significant issues or the proposed alternatives to the attention of Pat Mangan, Southern Delivery System EIS, Bureau of Reclamation, Eastern Colorado Area Office, 11056 W. County Road 18E, Loveland, CO 80537; or FAX to (303) 445-6328 or (303) 445-2236; or e-mail to pmangan@do.usbr.gov.

FOR FURTHER INFORMATION CONTACT: Anyone interested in more information about the EIS or the project may contact Pat Mangan by telephone at (303) 445-2236 or by e-mail at pmangan@do.usbr.gov.

SUPPLEMENTARY INFORMATION: Pursuant to section 102(2)(c) of NEPA, Reclamation will prepare an environmental impact statement (EIS) to identify and disclose the environmental effects of the proposed project. Cooperating agencies may be identified at a later date.

Reclamation will use the NEPA compliance process to ensure that the public has opportunities to review and comment on the direct and indirect effects of Reclamation's long-term storage and conveyance contract(s), the pipeline and related facilities, and changes to Fry-Ark operations for the SDS project. Reclamation and RWIA will hold five public scoping meetings in which Federal, State, and local government agencies, non-governmental organizations, and the public are invited to participate in an open exchange of information to identify potentially significant issues and to submit comments on the proposed scope of the EIS. Written comments concerning issues and alternatives to be evaluated in the EIS will be accepted and considered during preparation of the EIS. To be most effective, comments should be postmarked or e-mailed no later than 30 days following the final public scoping meeting.

In 2000, Reclamation evaluated a request from the Pueblo Board of Water Works (PBWW) to connect a pipeline to the Pueblo Reservoir Municipal Outlet Works (South Outlet Works), construct a pipeline across Reclamation land, and execute related storage and conveyance contracts. As this request was being considered, Springs Utilities and PBWW agreed to enlarge the upper portion of the pipeline (referred to below as the “Joint Use Manifold and Pipeline”) to accommodate potential future use by Springs Utilities. As a part of the environmental compliance process for PBWW's request, Reclamation prepared an environmental assessment (EA) to evaluate the impacts of construction and operation of the Joint Use Manifold and Pipeline. The EA acknowledged additional environmental compliance would be needed when Springs Utilities requested approval to convey their non-Fry-Ark water through the South Outlet Works to the Joint Use Manifold and Pipeline. Springs Utilities has now made that request through the RWIA request for Reclamation's approval of water-related contracts associated with the SDS project.

The proposed SDS Project would be located in the Arkansas River basin extending northward from the Arkansas River at or downstream of Pueblo Reservoir to the City of Colorado Springs. As proposed, the project includes construction and operation of the following components:

• An approximately 43-mile long, 66-inch diameter raw water pipeline and pump stations;

• A water treatment plant to provide potable water for municipal and industrial use;

• Distribution pipelines to convey potable water;

• A terminal raw water storage reservoir; and

• A water exchange reservoir.

The proposed system would be sized to meet water demands from Pueblo Reservoir in the year 2040 that are projected to be 78 million gallons per day (mgd).

The use of Pueblo Reservoir to store water is an important component of the proposed SDS project. Pueblo Reservoir is part of Reclamation's Fry-Ark Project and is a State Water Court-approved exchange reservoir for Colorado Springs' Arkansas River water rights. Reclamation will prepare an EIS prior to making decisions on the proposed Federal actions involved in the SDS project including storing non-Fry-Ark water in Pueblo Reservoir and conveying Fry-Ark and non-Fry-Ark water through Pueblo Reservoir to Colorado Springs. The EIS may also be used by other Federal agencies involved in permitting or approving specific aspects of the proposed project.

Purpose and Need

The purpose of the proposed SDS is to deliver up to 78 mgd of water from the Arkansas River at or downstream of Pueblo Reservoir to the service areas of the City of Colorado Springs, the City of Fountain, and the Security Water District (Project Participants) to meet their projected municipal and industrial water needs through 2040. The Project Participants have existing Arkansas River water rights that can be used to meet their projected water needs. However, their existing infrastructure lacks sufficient capacity to deliver the water and to fully utilize the Project Participants' decreed water rights. The purpose of the proposed SDS project is to meet that need for additional delivery capacity. Delivering this water is necessary to meet projected growth demands within the Project Participant's service areas and to fully utilize their existing Arkansas River water rights. The proposed SDS is also needed to provide redundancy for the Project Participant's existing Arkansas River basin water delivery systems to improve operational reliability, drought resiliency, and to maximize the use of existing water rights.

The Project Participants are currently using water conservation and related programs to reduce consumption. However, the Project Participants have determined that even with these programs, water needs in their service areas will increase in the future beyond their existing infrastructure's ability to supply water.

Proposed Alternatives

Technical, environmental, and economic screening criteria were used to identify potential alternatives capable of meeting the proposed project's purpose and need. The raw water pipeline would draw from one of four possible sources:

1. Directly from Pueblo Reservoir, using a new tap northwest of Pueblo Dam;

2. The Joint Use Manifold east of the South Outlet Works of Pueblo Reservoir, west of the City of Pueblo;

3. The Joint Use Pipeline, east of the Joint Use Manifold; or

4. The Arkansas River, just upstream of its confluence with Fountain Creek.

The pipeline would run north to a site east of Colorado Springs where it is anticipated to terminate at a water treatment plant located near Jimmy Camp Creek. There are several pipeline alignments associated with each possible source water location.

As required by Council on Environmental Quality implementing regulations (40 CFR 1502.2(e)), a full range of reasonable alternatives that meet the purpose and need and a no action alternative will be evaluated in the EIS. The EIS will evaluate potential environmental impacts of each alternative along with engineering and socioeconomic considerations. A preferred alternative has not been identified at this time.

Preliminary Identification of Environmental Issues

The following issues have been tentatively identified for analysis in the EIS. This list is preliminary and is intended to facilitate public comment on the scope of this EIS.

• What are the impacts of constructing the pipeline, including:

• Maintenance access roads,

• Substations,

• Construction lay down, staging, and borrow areas?

• Are there growth-inducing impacts?

• Are there environmental justice issues?

• What are the impacts to aquatic resources?

• What would be the impact to streams and wetlands?

• How would wildlife habitat be affected?

• Would new reservoirs provide recreational opportunities?

• Would significant cultural resources be affected?

• How would water quality in the Arkansas River and Fountain Creek be affected?

• How would the proposed project affect operation of the Fry-Ark project and the existing storage and conveyance contracts?

• How would streamflow in the Arkansas River be affected?

• Would this project affect water levels in Pueblo Reservoir?

• Will this project and other reasonably-foreseeable projects result in significant cumulative effects?

Timing

Reclamation plans to issue the draft EIS in the fall of 2004. Availability of the draft EIS will be publicized. Federal, State, and local government agencies, non-governmental organizations, and the general public will have an opportunity to review and comment on the draft EIS.

Scoping Meetings

Scoping meeting will be held from 6 to 8:30 p.m. on the following dates:

• Wednesday, September 24 , 2003, Buena Vista, Colorado

• Thursday, September 25, 2003, Fountain, Colorado

• Tuesday, October 7, 2003, La Junta, Colorado

• Thursday, October 9, 2003, Pueblo, Colorado

• Wednesday, October 15, 2003, Colorado Springs, Colorado

Meetings will be held at the following locations:

• Buena Vista Community Center, Pinon Room, 715 E. Main, Buena Vista, Colorado

• Fountain-Fort Carson High School Cafeteria, 900 Jimmy Camp Creek Road, Fountain, Colorado

• Koshare Indian Museum, Kiva Room, 115 West 18th, La Junta, Colorado

• Colorado State University—Pueblo, Occhiato Center—West Colorado Ball Room, 2200 Bonforte Blvd., Pueblo, Colorado

• Colorado Springs City Auditorium, 221 E. Kiowa, Colorado Springs, Colorado

Issues raised at the scoping meetings will be documented and summarized in a report that will be distributed to public libraries near the meeting locations, posted on Reclamation's Web site, and mailed upon request. This report will identify those issues that will be evaluated in the EIS.

Public Disclosure Statement

Comments received in response to this notice will become part of the administrative record for this project and are subject to public inspection. Comments, including names and home addresses of respondents, will be available for public review. Individual respondents may request that Reclamation withhold their home address from public disclosure, which will be honored to the extent allowable by law. There also may be circumstances in which Reclamation would withhold a respondent's identity from public disclosure, as allowable by law. If you wish to have your name and/or address withheld, you must state this prominently at the beginning of your comment. Reclamation will make all submissions from organizations or businesses and from individuals identifying themselves as representatives or officials of organizations or businesses available for public disclosure in their entirety.

Dated: August 29, 2003.
Gerald W. Kelso,
Acting Regional Director, Great Plains Region.

[FR Doc. 03-22710 Filed 9-5-03; 8:45 am]

BILLING CODE 4310-MN-P